DEPARTMENT OF TRANSPORTATION

Pipeline and Hazardous Materials Safety Administration

[Docket No. PHMSA-2012-0201]

Pipeline Safety: Communication During Emergency Situations

AGENCY: Pipeline and Hazardous Materials Safety Administration (PHMSA); DOT.

ACTION: Notice; Issuance of Advisory Bulletin.

SUMMARY: PHMSA is issuing this Advisory Bulletin to remind operators of gas, hazardous liquid, and liquefied natural gas pipeline facilities that operators should immediately and directly notify the Public Safety Access Point (PSAP) that serves the communities and jurisdictions in which those pipelines are located when there are indications of a pipeline facility emergency. Furthermore, operators should have the ability to immediately contact PSAP(s) along their pipeline routes if there is an indication of a pipeline facility emergency to determine if the PSAP has information which may help the operator confirm an emergency or to provide assistance and information to public safety personnel who may be responding to the event.

FOR FURTHER INFORMATION CONTACT: John Gale by phone at 202-366-0434 or by email at john.gale@dot.gov. Information about PHMSA may be found at http://phmsa.dot.gov.

SUPPLEMENTARY INFORMATION:

I. Background

Federal regulations for gas, liquefied natural gas (LNG), and hazardous liquid pipeline facilities require operators to have written procedures for responding to emergencies involving their pipeline facility. The regulations further require that operators include procedures for planning with and notifying local emergency response and other public officials to ensure a coordinated response. Under 49 CFR §§ 192.605, 192.615, 193.2509, and 195.402, pipeline facility operators must include provisions for coordinating with appropriate fire, law enforcement, emergency management, and other public safety officials in their emergency plans. Immediate contact by pipeline facility operators with local emergency responders located in potentially affected areas provides for appropriate, more coordinated and effective response to emergency situations involving pipelines, and can minimize potential injury, death and environmental damage.

Under §§ 192.616 and 195.440, pipeline facility operators must also develop and implement, and sustain a written public education program that follows the American Petroleum Institute's (API) Recommended Practice (RP) 1162. Incorporated by reference into §§ 192.616 and 195.440, API RP 1162 further requires operators to provide notice of, and information regarding their emergency response plans to appropriate local emergency officials. These response plans should include information about how emergency officials can determine potential pipeline related risks, and implement appropriate response plans.

In addition, on December 11, 2011, the National Transportation Safety Board (NTSB) issued safety recommendations following its investigation of the September 9, 2010, natural gas pipeline rupture in the city of San Bruno, CA. Included in these recommendations was NTSB Safety Recommendation P-11-9, which suggested that PHMSA require operators of gas and hazardous liquid pipelines “to ensure that their control room operators immediately and directly notify the 9-1-1 emergency call center(s) for the communities and jurisdiction in which those pipelines are located when a possible rupture of any pipeline is indicated.” Pipeline facility operators should be proactive in notifying officials of possible incidents so that a suitable and timely response can be implemented.

Finally, PHMSA is publishing this Advisory Bulletin to reiterate the importance of immediate dialogue between pipeline facility operators and PSAP staff when there is any indication of a pipeline rupture or other emergency condition which may have an adverse impact on public safety or the environment. The local PSAP may have information pertaining to the event that is not available to the pipeline facility operator. For example, a pipeline facility operator may be aware of a sudden pressure drop on their pipeline, but not be able to pinpoint the location of a release. The local PSAP may have received 9-1-1 calls concerning a strong odor of crude oil or fuel, or of a large fire, but not be aware a pipeline facility is involved. The early exchange and coordination of information can benefit both pipeline facility operators and emergency responders so that a more rapid and effective response to the event is achieved.

II. Advisory Bulletin (ADB-2012-09)

To: Operators of Gas, Hazardous Liquid, and Liquefied Natural Gas Pipeline Facilities

Subject: Communication During Emergency Situations

Advisory: To further enhance the Department's safety efforts, PHMSA is issuing this Advisory Bulletin regarding communication between pipeline facility operators and the PSAP which serves the local emergency responders during pipeline facility emergencies in communities along the pipeline route.

To ensure a prompt, effective, and coordinated response to any type of emergency involving a pipeline facility, pipeline facility operators are required to maintain an informed relationship with emergency responders in their jurisdiction in accordance with §§ 192.615, 193.2509 and 195.402.

PHMSA reminds pipeline facility operators of these requirements and, in particular, the need to notify the PSAP(s), commonly referred to as 9-1-1 emergency call centers, or the local equivalent, of indications of a pipeline facility emergency. Such indications may include an unexpected drop in pressure, unanticipated loss of supervisory control and data acquisition communications, or reports from field personnel. PHMSA recommends that pipeline facility operators immediately contact the PSAP for the communities and jurisdictions in which those indications occur, to notify local responders and implement a coordinated emergency response. These notifications to the PSAP(s) are typically made from pipeline facility control rooms and dispatch centers; pipeline facility operators should ensure the call to the appropriate PSAP is made promptly, and to as many jurisdictions as is necessary. A direct-inbound ten-digit number must be used for the specific PSAP, since a call to 9-1-1 would be routed only to the PSAP for the caller's location.

Further, PHMSA believes that immediate contact and conversation should be established between pipeline facility operators and PSAP staff when there is any indication of a pipeline rupture or other emergency condition which may have a potential adverse impact on public safety or the environment. PHMSA recommends that pipeline facility operators inquire of the PSAP(s) if there are any other reported indicators of possible pipeline emergencies such as odors, unexplained noises, product releases, explosions, fires, etc., as these reports may not have been linked to a possible pipeline incident by the callers contacting the 9-1-1 emergency call center. This early coordination will facilitate the timely and effective implementation of the pipeline facility operator's emergency response plan and coordinated response with local public safety officials.

Jeffrey D. Wiese,
Associate Administrator for Pipeline Safety.

[FR Doc. 2012-24975 Filed 10-10-12; 8:45 am]

BILLING CODE 4910-60-P